DEPARTMENT OF HEALTH AND HUMAN SERVICES

Administration for Children and Families

Notice of Availability of a Draft Programmatic Environmental Assessment

AGENCY: Administration on Children, Youth, and Families (ACYF), ACF, DHHS.

ACTION: Notice.

SUMMARY: The Administration for Children and Families has prepared a draft Programmatic Environmental Assessment in accordance with the National Environmental Policy Act of 1969, as amended, and the Revised General Administration Manual, HHS Part 30, Environmental Protection. The document assesses the environmental impacts of activities undertaken by the Head Start and Early Head Start grantees when purchasing, renovating or constructing child care facilities.

The Department of Health and Human Services has completed a review of the draft Programmatic Environmental Assessment. A determination as to the finding of significant or non-significant impacts on the environment will not be made until at least 30 days from the publication of this notice.

DATES: Written comments on the draft Programmatic Environmental Assessment should be received on or before December 11, 2001.

ADDRESSES: Persons wishing to review the draft Programmatic Environmental Assessment may obtain a copy by writing to: Head Start PEA Team, The Mangi Environmental Group, 701 West Broad Street, Suite 205, Falls Church, Virginia 22046. Comments concerning the draft Programmatic Environmental Assessment should be submitted to the Programmatic Environmental Team at the address above.

FOR FURTHER INFORMATION CONTACT: Douglas Klafehn, Acting Associate Commissioner, Head Start Bureau, Administration for Children, Youth and Families, P.O. Box 1182, Washington, D.C. 20013; (202) 205-8672.

SUPPLEMENTARY INFORMATION: Head Start and Early Head Start are authorized under the Head Start Act (42 U.S.C. 9801 et seq.). It is a national program providing comprehensive developmental services to low-income preschool children, primarily age three to age of compulsory school attendance, and their families. To help enrolled children achieve their full potential, Head Start programs provide comprehensive health, nutritional, educational, social and 500 Head Start program grantees.

To improve the availability and quality of child care centers, the Head Start Act was amended in 1992 and again in 1994 authorizing the use of federal financial assistance to make payments for capital expenditures, such as expenditures for the purchase, construction and major renovations of Head Start and Early Head Start facilities. This authority is found in Section 644 (f) and (g) of the Head Start Act.

In conformance with the Revised General Administration Manual, HHS Part 30, Environmental Protection, the Administration for Children and Families has conducted a Programmatic Environmental Assessment to determine if this federally funded activity would have a significant impact on the environment.

Dated: November 1, 2000.
Olivia A. Golden,
Assistant Secretary for Children and Families.

[FR Doc. 00-28799 Filed 11-8-00; 8:45 am]

BILLING CODE 4184-01-M